ENVIRONMENTAL PROTECTION AGENCY

40 CFR Parts 51, 60, 61, and 63

[EPA-HQ-OAR-2008-0531; FRL-9999-52-OAR]

Stationary Source Audit Program; Notification of Availability and Request for Comments

AGENCY: Environmental Protection Agency (EPA).

ACTION: Notification of availability, request for comments.

SUMMARY: The Environmental Protection Agency (EPA) is providing notification that one of the two accredited providers of audit samples for the stationary source audit program has ceased manufacturing samples. The general provisions require that the owner or operator of an affected facility required to conduct performance testing obtain audit samples if the audit samples are “commercially available” and have defined “commercially available” to mean that two or more independent accredited audit sample providers have blind audit samples available for purchase. Since there are no longer two providers, the requirement to obtain these audit samples is no longer in effect until such time as another independent accredited audit sample provider has audit samples available for purchase. The EPA is providing a 90-day comment period during which interested persons may provide comments on the suspension of the stationary source audit program and the effectiveness of the program prior to its suspension.

DATES: Comments must be received on or before December 10, 2019.

ADDRESSES: Submit your comments, identified by Docket ID No. EPA-HQ-OAR-2008-0531, to the Federal eRulemaking Portal: https://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, Cloud, or other file sharing system). For additional submission methods, the full EPA public comment policy, information about CBI or multimedia submissions, and general guidance on making effective comments, please visit https://www.epa.gov/dockets/commenting-epa-dockets.

For additional information about the EPA's public docket, visit the EPA Docket Center homepage at https://www.epa.gov/epahome/dockets.htm.

Docket: All documents in the docket are listed in the www.regulations.gov index. Although listed in the index, some information is not publicly available (e.g., CBI or other information whose disclosure is restricted by statute). Certain other material, such as copyrighted material, will be publicly available only in hard copy. Publicly available docket materials are available either electronically in www.regulations.gov or in hard copy at the Air and Radiation Docket and Information Center, EPA/DC, WJC West Building, Room 3334, 1301 Constitution Ave. NW, Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Mr. Ned Shappley, Air Quality Assessment Division, Environmental Protection Agency, Mail code: E143-02, 109 T.W. Alexander Drive, Research Triangle Park, NC 27709; telephone number: (919) 541-7903; email: shappley.ned@epa.gov.

SUPPLEMENTARY INFORMATION:

I. Background

On September 13, 2010 (75 FR 55636), EPA promulgated amendments to the General Provisions of parts 51, 60, 61, and 63 to allow accredited audit sample providers to supply stationary source audit samples and to require sources to obtain and use these samples from the accredited providers instead of from EPA, as was the practice prior to the promulgation date.

These amendments included minimum requirements for the audit samples, the accredited audit sample providers (AASP), and the audit sample provider accreditor (ASPA). The AASP are the companies that prepare and distribute the audit samples and the ASPA is a third-party organization that accredits and monitors the performance of the AASP. These organizations were required to work through a Voluntary Consensus Standard Body (VCSB) ¹ using the consensus process to develop criteria documents that describe how they will function and meet the EPA regulatory criteria listed in this rule. The AASPs were required to be accredited by an ASPA according to a technical criteria document developed by a VCSB and these technical criteria document had to meet EPA regulations.

¹ The Federal Office of Management and Budget Circular A-119 defines a VCSB as one having the following attributes: (i) Openness; (ii) balance of interest; (iii) due process; (iv) an appeals process; and (v) consensus, which is general agreement, but not necessarily unanimity, and includes a process for attempting to resolve objections by interested parties.

These amendments also included language that outlined the responsibilities of the regulated source owner or operator to acquire and use an audit sample for all testing conducted to determine compliance with an air emission limit under the subject parts and specified that the requirement applies only if there are commercially available audit samples for the test method used during the compliance testing. By clarifying the audit sample requirement and expanding audit sample availability through multiple providers, EPA believed that more audits would be conducted for compliance tests and the overall quality of the data used for determining compliance would improve.

II. Public Comment on the Suspension of the SSAP Program

The EPA suspended the SSAP program effective May 28, 2019, when we were notified by one of the two AASP that they would no longer be supplying audit samples. Since we require that audit samples are “commercially available” and have defined “commercially available” to mean that two or more independent AASP have blind audit samples available for purchase, EPA was obligated to suspend the program and provide notification on our website (https://www.epa.gov/emc). The EPA is seeking comment on whether we should continue the SSAP as currently defined in the General Provisions to 40 CFR parts 51, 60, 61, and 63. EPA is also seeking comment regarding if we should redefine “commercially available” as it applies to the number of AASPs which have audit samples available for purchase. The comment period for this action is 90 days from September 11, 2019.

III. Public Comment on the Effectiveness of the SSAP Program

Since the privatization of the EPA SSAP, approximately 20,000 audit samples have been ordered and analyzed with an effective passing rate of 97 percent for all methods in which audit samples are available. EPA is requesting comment on effectiveness of the SSAP and whether it has improved the quality of data produced by performance testing. In addition, EPA is seeking comment on whether EPA should consider revisions to the SSAP program to make it a more effective tool for evaluating quality of a performance test. As indicated previously, the comment period for this action is 90 days from September 11, 2019.

Dated: August 20, 2019.
Richard A. Wayland,
Director, Air Quality Assessment Division.

[FR Doc. 2019-19573 Filed 9-10-19; 8:45 am]

BILLING CODE 6560-50-P